DEPARTMENT OF THE INTERIOR

National Park Service

[N6700; NPS-WASO-NAGPRA-NPS0041446; PPWOCRADN0-PCU00RP14.R50000]

Notice of Intended Repatriation: Fowler Museum at University of California Los Angeles, Los Angeles, CA

AGENCY: National Park Service, Interior.

ACTION: Notice.

SUMMARY: In accordance with the Native American Graves Protection and Repatriation Act (NAGPRA), the Fowler Museum at University of California Los Angeles (UCLA) intends to repatriate certain cultural items that meet the definition of sacred objects and that have a cultural affiliation with the Indian Tribes or Native Hawaiian organizations in this notice.

DATES: Repatriation of the cultural items in this notice may occur on or after January 16, 2026.

ADDRESSES: Send additional, written requests for repatriation of the cultural items in this notice to Allison Fischer-Olson, Fowler Museum at UCLA, Box 951549, Los Angeles, CA 90095-1549, email afischerolson@arts.ucla.edu.

SUPPLEMENTARY INFORMATION: This notice is published as part of the National Park Service's administrative responsibilities under NAGPRA. The determinations in this notice are the sole responsibility of the Fowler Museum at UCLA, and additional information on the determinations in this notice, including the results of consultation, can be found in the summary or related records. The National Park Service is not responsible for the determinations in this notice.

Abstract of Information Available

A total of 20 cultural items have been requested for repatriation. The 20 sacred objects are pāhoa (daggers), ko'i (adze heads), pōhaku ku'i 'ai (poi pounder), 'ihe (wood spear), ulumaika (bowling stones), kealaokama'a (sling stones), and a shark tooth weapon. In 1965, Sir Henry Wellcome gifted five pāhoa (daggers, swords, or knives) (X65.2400, X65.2401, X65.2402, X65.2403, X65.2194), documented as originating from Polynesia/Hawaii, to the Museum. In 1965, Sir Henry Wellcome gifted one pōhaku ku'i 'ai (poi pounder) (X65.10755), documented as originating from Honolulu/Hawaii, to the museum. In 1965, Sir Henry Wellcome gifted one 'ihe (wood spear) (X65.7252) and one shark tooth weapon (X65.5539), documented as originating from Hawaii, to the museum. In 1965, Mr. and Mrs. Ralph C. Altman gifted five ulumaika (bowling stones) (X65.10208A-E) and three kealaokama'a (sling stones) (X65.10208F-H), documented as originating from Hawaii/Polynesia, to the museum. In 1967, Sir Henry Wellcome gifted three ko'i (adze heads) (X67.4914, X67.4915, X67.4918), documented as originating from Hawaii or Hawaii/Polynesia, to the museum. In 1968, Sir Henry Wellcome gifted one ko'i (adze head) (X68.467), documented as originating from Honolulu/Hawaii/Polynesia/Oceania, to the museum. There is no known use of potentially hazardous substances for treatment of the sacred objects.

Determinations

The Fowler Museum at UCLA has determined that:

• The 20 sacred objects described in this notice are specific ceremonial objects needed by a traditional Native American religious leader for present-day adherents to practice traditional Native American religion, according to the Native American traditional knowledge of a lineal descendant, Indian Tribe, or Native Hawaiian organization.

• There is a connection between the cultural items described in this notice and the Hui Iwi Kuamo'o.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after January 16, 2026. If competing requests for repatriation are received, the Fowler Museum at UCLA must determine the most appropriate requestor prior to repatriation. Requests for joint repatriation of the cultural items are considered a single request and not competing requests. The Fowler Museum at UCLA is responsible for sending a copy of this notice to the Indian Tribes and Native Hawaiian organizations identified in this notice and to any other consulting parties.

Authority: Native American Graves Protection and Repatriation Act, 25 U.S.C. 3004 and the implementing regulations, 43 CFR 10.9.

Dated: November 25, 2025.
Melanie O'Brien,
Manager, National NAGPRA Program.

[FR Doc. 2025-23053 Filed 12-16-25; 8:45 am]

BILLING CODE 4312-52-P